DEPARTMENT OF AGRICULTURE

Rural Business-Cooperative Service

Notice of Funds Availability Under the Rural Microentrepreneur Assistance Program

AGENCIES: Rural Business-Cooperative Service, USDA.

ACTION: Correction; Extension of applications deadline.

SUMMARY: The Rural Business-Cooperative Service announced the fiscal year (FY) 2013 funding available under the Rural Microentrepreneur Assistance Program (RMAP) in the Federal Register Vol. 78, No. 157 on Wednesday, August 14, 2013. This Notice extends the application deadline for initial loans with a technical assistance grant, initial or subsequent loan only, and technical assistance-only grants from September 13, 2013, to October 31, 2013. The Agency will make awards each Federal fiscal quarter. In the event that all program funds are not obligated in a quarter, the remaining unobligated funds will be carried over to the subsequent quarter.

DATES: Applications will be accepted on a quarterly basis using Federal fiscal quarters; however the June 30, 2013, quarterly deadline is extended to October 31, 2013. Completed applications must be received in the U.S. Department of Agriculture (USDA) Rural Development State Offices no later than the deadline of October 31, 2013, to be considered for funds available in FY 2013. The extension of the deadline to October 31, 2013, does not apply to subsequent annual microlender technical assistance grants.

SUPPLEMENTARY INFORMATION: A Notice of Solicitation of Applications for Inviting Intermediary Relending Program Applications was published on Wednesday, August 14, 2013 (78 FR 49446-49450).

Federal Funding Accountability and Transparency Act

All applicants, in accordance with 2 CFR part 25, must have a Data Universal Numbering System number, which can be obtained at no cost via a toll-free request line at 1-866-705-5711 or online at http://fedgov.dnb.com/webform. Similarly, all applicants must be registered in the System for Award Management (SAM) prior to submitting an application. Applicants may register for the SAM at http://www.sam.gov. All recipients of Federal financial assistance are required to report information about first-tier sub-awards and executive total compensation in accordance with 2 CFR part 170.

Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form, found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities who wish to file a program complaint, please see information above on how to contact us by mail directly or by email. If you require alternative means of communication for program information (e.g., Braille, large print, audiotape, etc.) please contact USDA's TARGET Center at (202) 720-2600 (voice and TDD).

Dated: September 20, 2013.
Lillian E. Salerno,
Administrator, Rural Business-Cooperative Service.

[FR Doc. 2013-23474 Filed 9-25-13; 8:45 am]

BILLING CODE 3410-XY-P